DEPARTMENT OF HEALTH AND HUMAN SERVICES

Indian Health Service

Community Health Aide Program: Tribal Planning & Implementation

Announcement Type: New.

Funding Announcement Number: HHS-2023-IHS-TPI-0001.

Assistance Listing (Catalog of Federal Domestic Assistance or CFDA) Number: 93.382.

Key Dates

Application Deadline Date: August 1, 2023.

Earliest Anticipated Start Date: September 15, 2023.

I. Funding Opportunity Description

Statutory Authority

The Indian Health Service (IHS) is accepting applications for grants for the Community Health Aide Program (CHAP) Tribal Planning and Implementation (TPI) program. The CHAP is authorized under the Snyder Act, 25 U.S.C. 13; the Transfer Act, 42 U.S.C. 2001(a); and the Indian Health Care Improvement Act, 25 U.S.C. 1616l. The Assistance Listings section of SAM.gov (https://sam.gov/content/home) describes this program under 93.382.

Background

The national CHAP will provide a network of health aides trained to support licensed health professionals while providing direct health care, health promotion, and disease prevention services. These providers will work within a referral relationship under the supervision of licensed clinical providers that includes clinics, service units, and hospitals. The program will increase access to direct health services, including inpatient and outpatient visits.

The Alaska CHAP has become a model for efficient and high quality health care delivery in rural Alaska providing approximately 300,000 patient encounters per year and responding to emergencies 24 hours a day, 7 days a week. Specialized providers in dental and behavioral health were later introduced to respond to the needs of patients and address the health disparities in oral health and mental health amongst American Indians and Alaska Natives.

The national CHAP is a workforce model that includes three different provider types that act as extenders of licensed clinical supervisors. The national CHAP currently includes a behavioral health aide, community health aide, and dental health aide. Each of the health aide categories operate in a tiered level practice system. The national CHAP model provides an opportunity for increased access to care through the extension of primary care, dental, and behavioral health clinicians.

In 2010, under the permanent reauthorization of the Indian Health Care Improvement Act (IHCIA), Congress provided the Secretary of Health and Human Services, acting through the IHS, the authority to expand the Alaska CHAP program. In 2016, the IHS initiated Tribal Consultation on expanding the CHAP to the contiguous 48 states. In 2018, the IHS formed the CHAP Tribal Advisory Group (TAG) and began developing the program. In 2020, the IHS announced the national CHAP policy, which formally created the national CHAP.

Purpose

The purpose of the TPI program is to support the planning and implementation for Tribes and Tribal Organizations (T/TO) positioned to begin operating a CHAP or support a growing CHAP in the contiguous 48 states. The program is designed to support the regional flexibility required to implement a CHAP unique to the needs of individual Tribal communities across the country through the identification of feasibility factors. The focus of the program is to:

1. Develop clinical supervisor support for primary care, behavioral health, and dental health clinicians providing both direct and indirect supervision of prospective health aides;

2. Identify area and community-specific health care needs of patients that can be addressed by the health aides;

3. Identify and develop a technology infrastructure plan for the mobility and success of health aides in anticipation of providing services;

4. Develop a training plan to include partners across the T/TO's geographic region to enhance the training opportunities available to prospective health aides to include continuing education and clinical practice;

5. Identify best practices for integrating a CHAP workforce into an existing Tribal health system;

6. Address social determinants of health that impact the recruitment and retention of prospective health aides; and

7. Identify the total cost of full implementation of a CHAP within an existing Tribal health system.

II. Award Information

Funding Instrument—Grant

Estimated Funds Available

The total funding identified for fiscal year (FY) 2023 is approximately $3,000,000. Individual award amounts are anticipated to be between $900,000 and $1,000,000. The funding available for competing and subsequent continuation awards issued under this announcement is subject to the availability of appropriations and budgetary priorities of the Agency. The IHS is under no obligation to make awards that are selected for funding under this announcement.

Anticipated Number of Awards

Approximately three to five awards will be issued under this program announcement. The IHS intends to award no more than one grant per IHS area.

Period of Performance

The period of performance is 2 years.

I. Eligibility Information

1. Eligibility

To be eligible for this funding opportunity, an applicant must be one of the following as defined under 25 U.S.C. 1603:

• A federally recognized Indian Tribe as defined by 25 U.S.C. 1603(14). The term “Indian Tribe” means any Indian Tribe, band, nation, or other organized group or community, including any Alaska Native village or group, or regional or village corporation, as defined in or established pursuant to the Alaska Native Claims Settlement Act (85 Stat. 688) [43 U.S.C. 1601 et seq.], which is recognized as eligible for the special programs and services provided by the United States (U.S.) to Indians because of their status as Indians.

• A Tribal organization as defined by 25 U.S.C. 1603(26). The term “Tribal organization” has the meaning given the term in Section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: provided that, in any case where a contract is let or grant made to an organization to perform services benefiting more than one Indian Tribe, the approval of each such Indian Tribe shall be a prerequisite to the letting or making of such contract or grant. Applicant shall submit letters of support and/or Tribal Resolutions from the Tribes to be served.

The Division of Grants Management (DGM) will notify any applicants deemed ineligible.

2. Additional Information on Eligibility

The IHS does not fund concurrent projects. If an applicant is successful under this announcement, any subsequent applications in response to other TPI announcements from the same applicant will not be funded. Applications on behalf of individuals (including sole proprietorships) and foreign organizations are not eligible and will be disqualified from competitive review and funding under this funding opportunity.

Specifically, an applicant may not apply to both this opportunity, TPI, and the CHAP Tribal Assessment and Planning (TAP) opportunity (number HHS-2023-IHS-TAP-0001).

An organization currently carrying out a CHAP in the U.S. in accordance with 25 U.S.C. 1616l through an Indian Self-Determination and Education Assistance Act (ISDEAA) agreement is eligible to apply, but may not utilize the funds to carry out a CHAP.

Note: Please refer to Section IV.2 (Application and Submission Information/Subsection 2, Content and Form of Application Submission) for additional proof of applicant status documents required, such as Tribal Resolutions, proof of non-profit status, etc.

3. Cost Sharing or Matching

The IHS does not require matching funds or cost sharing for grants or cooperative agreements.

4. Other Requirements

Applications with budget requests that exceed the highest dollar amount outlined under Section II Award Information, Estimated Funds Available, or exceed the period of performance outlined under Section II Award Information, Period of Performance, are considered not responsive and will not be reviewed. The DGM will notify the applicant.

Additional Required Documentation

Tribal Resolution

The DGM must receive an official, signed Tribal Resolution prior to issuing a Notice of Award (NoA) to any T/O selected for funding. An applicant that is proposing a project affecting another Indian Tribe must include resolutions from all affected Tribes to be served. However, if an official signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official signed Tribal Resolution to the GMS. If the signed Tribal Resolution is not received within 90 days, the award will be forfeited.

Applicants organized with a governing structure other than a Tribal council may submit an equivalent document commensurate with their governing organization.

Proof of Nonprofit Status

Organizations claiming nonprofit status must submit a current copy of the 501(c)(3) Certificate with the application.

IV. Application and Submission Information

Grants.gov uses a Workspace model for accepting applications. The Workspace consists of several online forms and three forms in which to upload documents—Project Narrative, Budget Narrative, and Other Documents. Give your files brief descriptive names. The filenames are key in finding specific documents during the objective review and in processing awards. Upload all requested and optional documents individually, rather than combining them into a single file. Creating a single file creates confusion when trying to find specific documents. Such confusion can contribute to delays in processing awards, and could lead to lower scores during the objective review.

1. Obtaining Application Materials

The application package and detailed instructions for this announcement are available on https://www.Grants.gov.

Please direct questions regarding the application process to DGM@ihs.gov.

2. Content and Form Application Submission

Mandatory documents for all applicants include:

• Application forms:

1. SF-424, Application for Federal Assistance.

2. SF-424A, Budget Information—Non-Construction Programs.

3. SF-424B, Assurances—Non-Construction Programs.

4. Project Abstract Summary form.

• Project Narrative (not to exceed 15 pages). See Section IV.2.A Project Narrative for instructions.

1. Background information on the organization.

2. Proposed scope of work, objectives, and activities that provide a description of what the applicant plans to accomplish.

• Budget Justification and Narrative (not to exceed 5 pages). See Section IV.2.B Budget Narrative for instructions.

• One-page Timeframe Chart.

• Tribal Resolution(s).

• Letters of Support from organization's Board of Directors (if applicable).

• 501(c)(3) Certificate.

• Biographical sketches for all Key Personnel.

• Contractor/Consultant resumes or qualifications and scope of work.

• Disclosure of Lobbying Activities (SF-LLL), if applicant conducts reportable lobbying.

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative: This narrative should be a separate document that is no more than 15 pages and must: (1) have consecutively numbered pages; (2) use black font 12 points or larger; (3) be single-spaced; and (4) be formatted to fit standard letter paper (8½ × 11 inches). Do not combine this document with any others.

Be sure to succinctly answer all questions listed under the evaluation criteria (refer to Section V.1, Evaluation Criteria) and place all responses and required information in the correct section noted below or they will not be considered or scored. If the narrative exceeds the page limit, the reviewers will be directed to ignore any content beyond the page limit. The 15-page limit for the project narrative does not include the work plan, standard forms, Tribal Resolutions, budget, budget narratives, and/or other items. Page limits for each section within the project narrative are guidelines, not hard limits.

There are three parts to the project narrative: Part 1—Program Information; Part 2—Program Planning; Part 3—Program Evaluation; and Part 4—Program Report. See below for additional details about what must be included in the narrative.

The page limits below are for each narrative and budget submitted.

Part 1: Program Information (limit—4 pages)

Section 1: Community Profile

Describe the demographics of the community including but not limited to geography, languages, age, and socioeconomic status. The community profile should include data specific to the community that would benefit from the implementation of the CHAP. Include a brief summary of information obtained through use of a Tribal and Assessment Planning Grant if applicable.

Section 2: Health & Infrastructure Needs

Describe the community's current health disparities related to primary, behavioral, and oral health care. The needs section should provide facts and evidence related to infrastructure barriers (e.g., recruitment, retention, and access to facilities). Include a brief summary of information obtained through use of a Tribal and Assessment Planning Grant if applicable.

Section 3: Organizational Capacity

Describe the T/TO's current health program activities, how long it has been operating, and what programs or services are currently being provided. Describe in full the organization's infrastructure and its ability to assess the feasibility of implementing a CHAP and identifying significant barriers that could prohibit the implementation. Include a brief summary of any information obtained through use of a Tribal Assessment and Planning Grant.

Part 2: Program Planning and Evaluation (limit—6 pages)

Section 1: Program Plans

Describe in full the direction the T/TO plans to take in the CHAP TPI. The program plan should identify the plan, including how all aspects of the implementation will be based in Tribal culture and how the program plan will address Tribal infrastructure needs specific to:

• Clinical infrastructure and clinical operations.

• Workforce development including supervision plans for CHAP providers that address community and region specific needs.

• Training infrastructure (including continuing education).

• Technology infrastructure.

• System integration.

• Implementation cost.

Section 2: Program Activities

Describe in full how the applicant will develop a robust clinical infrastructure to support clinical operations specific to CHAP providers. The activities should include how the applicant will correlate the community health needs with the CHAP program needs, including specific cultural elements. Include how the applicant will develop position descriptions, the scope of work of health aides, policy development, and a detailed plan of how to adjust the clinical operations to incorporate CHAP providers. Describe how CHAP providers will be trained, specific to the regional resources, include continuing education training plans. Describe how the CHAP providers will be supervised including staffing plans for CHAP provider supervision. List the available technology and detail how the current technology infrastructure will be utilized to support the CHAP providers, including aiding in provider mobility or how it will be built specific to the needs of the CHAP program, both at the provider and the clinic level. Detail how the CHAP program will be integrated with the current system to provide maximization of provider and program to improve community health, including cultural components the program is uniquely positioned or designed to address. Provide a detailed plan of how the award funds will be used by the applicant to implement the CHAP program, specific to the above implementation components.

Section 3: Staffing Plan

Describe key staff tasked with carrying out the program activities carried out in Section 2. Applicants are highly encouraged to partner with other key stakeholders within the T/TO's region for a robust understanding of the needs and implications of implementing a CHAP into their respective communities.

Section 4: Timeline

Describe a timeline not to exceed 2 years for the completion of the program plan, activities, and evaluation plan. Provide a timeline chart depicting a realistic timeline that details all major activities, milestones, and applicable staffing plans. The timeline should include the projected progress report due at the midpoint of the project period. The timeline chart should not exceed one page.

Part 3: Program Evaluation

Section 1: Evaluation Plan

Please identify and describe significant program activities and achievements associated with the delivery of quality health services. Provide a plan to provide a comparison of the actual accomplishments to the goals established for the project period, or if applicable, provide justification for the lack of progress. The evaluation plan should address major categories related to (See Logic Model in Appendix):

• Clinical infrastructure and clinical operations. Describe how clinical infrastructure and operations have changed to incorporate and integrate the CHAP program. Include any data on referrals to CHAP providers, number of clinic providers making referrals to CHAP providers and demonstrated increases in health promotion and disease prevention efforts.

• Workforce development including supervision plans for CHAP providers that address community and region specific needs. Include data on outreach and recruiting activities, number of CHAP applications received, supervisors trained for each provider type.

• Training infrastructure (including continuing education). Describe where the training for each CHAP discipline will be provided and whether it will be delivered in person, virtually or hybrid. Summarize how oversight will be maintained to assure a high-quality training is achieved. Detail how each aspiring or advancing CHAP provider will be supported and supervised throughout any hands-on training. Include data on each item if available.

• Technology infrastructure. Describe what technology will be used and how it supports the CHAP program. Detail any changes made to existing technology infrastructure to incorporate CHAP providers. Include how CHAP provider charting will be integrated into electronic health records. List specific technology purchased or transferred to the CHAP program to support CHAP providers. Include information on network accessibility, specifically any barriers to accessibility and how this can be overcome.

• System integration. Describe in detail what barriers to integration have been overcome and how. List patient outreach and education, trainings provided to clinic staff, trainings specific to providers on how CHAP providers will integrate and extend licensed providers to achieve best practices and health benefits. Describe specific populations where CHAP may be focused such as prenatal, child vaccination, dental sealant placement, substance abuse screening, hospital discharge follow up, etc., and how the CHAP providers integrate their visits with existing clinic systems. Include any data that supports system integration changes.

• Implementation cost. Provide details on budgeted items, explaining any overages and what happened that created overages. Explain how any excess funds were re-allocated to fully utilize all grant funds.

Part 4: Program Report (limit—5 pages)

Section 1: Describe your organization's significant program activities and accomplishments over the past 5 years associated with the goals of this announcement. Please identify and describe significant program activities and achievements associated with the planning and implementation of the CHAP program. Provide a comparison of the actual accomplishments to the goals established for the project period, or if applicable, provide justification for the lack of progress.

B. Budget Narrative (limit—5 pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item would support the achievement of proposed objectives. Be very careful about showing how each item in the “Other” category is justified. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys, Deputy Director, DGM, by email at DGM@ihs.gov. Please be sure to contact Mr. Gettys at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one grant may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. Applications that do not include a copy of the waiver approval from the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management

Organizations that are not registered with the System for Award Management (SAM) must access the SAM online registration through the SAM home page at https://sam.gov. Organizations based in the U.S. will also need to provide an Employer Identification Number from the Internal Revenue Service that may take an additional 2-5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS awardees to report information on sub-awards. Accordingly, all IHS awardees must notify potential first-tier sub-awardees that no entity may receive a first-tier sub-award unless the entity has provided its UEI number to the prime awardee organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Introduction and Need for Assistance (10 points)

Identify the proposed project and plans to fully implement a CHAP within their community. The needs should clearly identify the existing health system and how the CHAP will be integrated to meet the health needs of the community in the fields of behavioral, oral, and primary health care.

B. Project Objective(s), Work Plan, and Approach (30 points)

The work plan should be comprised of two key parts: Program Information and Program Plan. Provide information related to three key sections: community profile; health and infrastructure; and organizational capacity. The Program Information part should demonstrate a robust community profile that highlights the existing health system, demographical data of community members and user population, and a detailed description of the T/TO carrying out the proposed activity. An acceptable Program Plan expecting to receive full points should include details of the applicants plan to address the program objective. The Program Plan should address at a minimum key activities related to clinical supervisor support, scope of work, technology infrastructure, training infrastructure, integration best practices, and auxiliary support to health aides that address social determinants.

C. Program Evaluation (30 points)

The program evaluation should be comprised of two key sections: evaluation plan and outcome report. The evaluation plan should address major categories related to clinical supervisor support, enhanced scope of work, technology infrastructure, training infrastructure, integration best practices, auxiliary support, and full implementation costs (See Sample Logic Model in Appendix). The evaluation plan should identify how the T/TO plans to fully integrate CHAP. The evaluation should include total implementation costs based on the implementation plan and program plan identified including any significant implementation barriers. List measurable and attainable goals with explicit timelines that detail expectation of findings. The Outcome Report should describe in full the findings of the program plan, evaluation, determination on stage of readiness for implementation and implementation activities. The outcome report should organize the findings into at least five of the six categories:

1. Clinical infrastructure and clinical operations.

2. Workforce development including supervision plans for CHAP providers that address community and region specific needs.

3. Training infrastructure (including continuing education).

4. Technology infrastructure.

5. System integration.

6. Implementation cost.

Applicants are encouraged to identify additional categories above these six and may choose to develop subcategories that best fit the program plan.

D. Organizational Capabilities, Key Personnel, and Qualifications (10 points)

Provide a detailed biographical sketch of each member of key personnel assigned to carry out the objectives of the program plan. The sketches should detail the qualifications and expertise of identified staff.

E. Categorical Budget and Budget Justification (20 points)

Provide a detailed budget of each expenditure directly related to the identified program activities.

Additional documents can be uploaded as Other Attachments in Grants.gov. These can include:

• Work plan, logic model, and/or timeline for proposed objectives.

• Position descriptions for key staff.

• Resumes of key staff that reflect current duties.

• Consultant or contractor proposed scope of work and letter of commitment (if applicable).

• Current Indirect Cost Rate Agreement.

• Organizational chart.

• Map of area identifying project location(s).

• Additional documents to support narrative (i.e. data tables, key news articles, etc.).

2. Review and Selection

Each application will be prescreened for eligibility and completeness as outlined in this funding announcement. Applications that meet the eligibility criteria shall be reviewed for merit by the Review Committee (RC) based on the evaluation criteria. Incomplete applications and applications that are not responsive to the administrative thresholds (budget limit, period of performance limit) will not be referred to the RC and will not be funded. The DGM will notify the applicant of this determination.

Applicants must address all program requirements and provide all required documentation.

3. Notifications of Disposition

All applicants will receive an Executive Summary Statement from the IHS Office of Clinical and Preventive Services within 30 days of the conclusion of the RC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence other than the official NoA executed by an IHS grants management official announcing to the project director that an award has been made to their organization is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2021-title45-vol1/pdf/CFR-2021-title45-vol1-part75.pdf.

• Please review all HHS regulatory provisions for Termination at 45 CFR 75.372, at the time of this publication located at https://www.govinfo.gov/content/pkg/CFR-2021-title45-vol1/pdf/CFR-2021-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E, at the time of this publication located at https://www.govinfo.gov/content/pkg/CFR-2021-title45-vol1/pdf/CFR-2021-title45-vol1-part75-subpartE.pdf.

E. Audit Requirements:

• Uniform Administrative Requirements for HHS Awards, “Audit Requirements,” at 45 CFR part 75 subpart F, at the time of this publication located at https://www.govinfo.gov/content/pkg/CFR-2021-title45-vol1/pdf/CFR-2021-title45-vol1-part75-subpartF.pdf.

F. As of August 13, 2020, 2 CFR part 200 was updated to include a prohibition on certain telecommunications and video surveillance services or equipment. This prohibition is described in 2 CFR part 200.216. This will also be described in the terms and conditions of every IHS grant and cooperative agreement awarded on or after August 13, 2020.

2. Indirect Costs

This section applies to all recipients that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable award activities under the current award's budget period. If the current rate agreement is not on file with the DGM at the time of award, the IDC portion of the budget will be restricted. The restrictions remain in place until the current rate agreement is provided to the DGM.

Per 2 CFR 200.414(f) Indirect (F&A) costs,

any non-Federal entity (NFE) [i.e., applicant] that does not have a current negotiated rate, . . . may elect to charge a de minimis rate of 10 percent of modified total direct costs which may be used indefinitely. As described in Section 200.403, costs must be consistently charged as either indirect or direct costs, but may not be double charged or inconsistently charged as both. If chosen, this methodology once elected must be used consistently for all Federal awards until such time as the NFE chooses to negotiate for a rate, which the NFE may apply to do at any time.

Electing to charge a de minimis rate of 10 percent can be used by applicants that have received an approved negotiated indirect cost rate from HHS or another cognizant Federal agency. Applicants awaiting approval of their indirect cost proposal may request the 10 percent de minimis rate. When the applicant chooses this method, costs included in the indirect cost pool must not be charged as direct costs to the award.

Available funds are inclusive of direct and appropriate indirect costs. Approved indirect funds are awarded as part of the award amount, and no additional funds will be provided.

Generally, IDC rates for IHS recipients are negotiated with the Division of Cost Allocation at https://rates.psc.gov/ or the Department of the Interior (Interior Business Center) at https://ibc.doi.gov/ICS/tribal. For questions regarding the indirect cost policy, please write to DGM@ihs.gov.

3. Reporting Requirements

The recipient must submit required reports consistent with the applicable deadlines. Failure to submit required reports within the time allowed may result in suspension or termination of an active award, withholding of additional awards for the project, or other enforcement actions such as withholding of payments or converting to the reimbursement method of payment. Continued failure to submit required reports may result in the imposition of special award provisions and/or the non-funding or non-award of other eligible projects or activities. This requirement applies whether the delinquency is attributable to the failure of the recipient organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required annually. The progress reports are due within 90 days after the budget period ends (specific dates will be listed in the NoA Terms and Conditions). These reports must include a brief comparison of actual accomplishments to the goals established for the period, a summary of progress to date or, if applicable, provide sound justification for the lack of progress, and other pertinent information as required. A final report must be submitted within 120 days of expiration of the period of performance.

B. Financial Reports

Federal Financial Reports are due 90 days after the end of each budget period, and a final report is due 120 days after the end of the period of performance. Recipients are responsible and accountable for reporting accurate information on all required reports: the Progress Reports and the Federal Financial Report.

Failure to submit timely reports may result in adverse award actions blocking access to funds.

C. Data Collection and Reporting

At the conclusion of the program period, the outcome report should detail how the T/TO plans to completely integrate CHAP into their Tribal health system and list major barriers that could potentially impact full integration. The Outcome Report should describe in full the findings of the program plan and evaluation, and plans for implementation. The outcome report should organize the findings of the key categories:

1. Clinical Supervisor Support.

2. Scope of Practice.

3. Technology Infrastructure.

4. Training Plan.

5. System Integration.

6. Auxiliary Support to Address Social Determinants.

Based on the findings and measureable outcomes of the categories, the applicant should explicitly identify the implementation plan and projected cost associated with full implementation.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal awards to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Non-Discrimination Legal Requirements for Awardees of Federal Financial Assistance (FFA)

The recipient must administer the project in compliance with Federal civil rights laws, where applicable, that prohibit discrimination on the basis of race, color, national origin, disability, age, and comply with applicable conscience protections. The recipient must comply with applicable laws that prohibit discrimination on the basis of sex, which includes discrimination on the basis of gender identity, sexual orientation, and pregnancy. Compliance with these laws requires taking reasonable steps to provide meaningful access to persons with limited English proficiency and providing programs that are accessible to and usable by persons with disabilities. The HHS Office for Civil Rights provides guidance on complying with civil rights laws enforced by HHS. See https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

• Pursuant to 45 CFR 80.3(d), an individual shall not be deemed subjected to discrimination by reason of their exclusion from benefits limited by Federal law to individuals eligible for benefits and services from the IHS.

F. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award. All applicants and recipients must disclose in writing, in a timely manner, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Marsha Brookins, Director, 5600 Fishers Lane, Mail Stop: 09E70, Rockville, MD 20857, (Include “Mandatory Grant Disclosures” in subject line), Office: (301) 443-5204, Fax: (301) 594-0899, Email: DGM@ihs.gov.

and

U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line,), Fax: (202) 205-0604 (Include “Mandatory Grant Disclosures” in subject line) or Email: MandatoryGranteeDisclosures@oig.hhs.gov.

Failure to make required disclosures can result in any of the remedies described in 45 CFR 75.371. Remedies for noncompliance, including suspension or debarment (see 2 CFR part 180 and 2 CFR part 376).

VII. Agency Contacts

1. Questions on the programmatic issues may be directed to: Donna E. Enfield, Public Health Advisor, Office of Clinical and Preventive Services, 5600 Fishers Lane, Mail Stop: 08N34A, Rockville, MD 20857, Phone: (301) 526-6966, Fax: (301) 594-6213, Email: IHSCHAP@ihs.gov.

2. Questions on grants management and fiscal matters may be directed to: Indian Health Service, Division of Grants Management, 5600 Fishers Lane, Mail Stop: 09E70, Rockville, MD 20857, Email: DGM@ihs.gov.

3. For technical assistance with Grants.gov, please contact the Grants.gov help desk at (800) 518-4726, or by email at support@grants.gov.

4. For technical assistance with GrantSolutions, please contact the GrantSolutions help desk at (866) 577-0771, or by email at help@grantsolutions.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

BILLING CODE 4165-16-P

[FR Doc. 2023-09363 Filed 5-2-23; 8:45 am]

BILLING CODE 4165-16-C